DEPARTMENT OF COMMERCE

Foreign-Trade Zones Board

[B-99-2013]

Notification of Proposed Production Activity, Hitachi Automotive Systems Americas, Inc., Subzone 29F, (Automotive Electric-Hybrid Drive System Components), Harrodsburg, Kentucky

The Louisville and Jefferson County Riverport Authority, grantee of FTZ 29, submitted a notification of proposed production activity to the FTZ Board on behalf of Hitachi Automotive Systems Americas, Inc. (HIAMS-HK), operator of Subzone 29F, at its facilities located in Harrodsburg, Kentucky. The notification conforming to the requirements of the regulations of the FTZ Board (15 CFR 400.22) was received on November 12, 2013.

HIAMS-HK already has authority to produce various automotive components, including mass air sensors, throttle bodies and chambers, starter motors, motor/generator units, alternators, distributors, other static converters, inverter modules, rotors/stators, batteries, ignition coils, sensors and modules, fuel injectors, emissions control equipment, valves, pumps, and electronic control units for engines and transmissions within Subzone 29F. The current request would add finished products (lithium-ion hybrid battery pack assemblies, electrical power steering modules, and electronic torque, traction and transmission control modules) and certain foreign components to the scope of authority. Pursuant to 15 CFR 400.14(b), FTZ activity would be limited to the specific foreign-status components and specific finished products described in the submitted notification (as described below) and subsequently authorized by the FTZ Board.

Production under FTZ procedures could exempt HIAMS-HK from customs duty payments on the foreign status components used in export production. On its domestic sales, HIAMS-HK would be able to choose the duty rates during customs entry procedures that apply to lithium-ion hybrid battery pack assemblies, rotors A&B, stators A&B, electrical power steering modules, and electronic torque, traction and transmission control modules (free-3.4%) for the foreign status inputs noted below and in the existing scope of authority. Customs duties also could possibly be deferred or reduced on foreign status production equipment.

The components and materials sourced from abroad include: Plastic grommets; rubber drain tubes; bushings; gaskets; lead/tin solder; parts of batteries (covers, cover assemblies, cell case assemblies, insulator covers, cells, inlet/outlet harness holders, inlet/outlet ducts); resolver rotors; and, battery control units (duty rate ranges from free to 5.3%).

Public comment is invited from interested parties. Submissions shall be addressed to the FTZ Board's Executive Secretary at the address below. The closing period for their receipt is January 6, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Pierre Duy at Pierre.Duy@trade.gov or (202) 482-1378.

Dated: November 19, 2013.
Andrew McGilvray,
Executive Secretary.

[FR Doc. 2013-28351 Filed 11-25-13; 8:45 am]

BILLING CODE 3510-DS-P